DEPARTMENT OF COMMERCE

National Oceanic and Atmospheric Administration

[I.D. 081104C]

Proposed Information Collection; Comment Request; NOAA Satellite Ground Station Customer Questionnaire

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 15, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Darrell Robertson, E/SP3, Room 3320, 5200 Auth Road, Suitland, MD 20746-4304 (phone 301-457-5681).

SUPPLEMENTARY INFORMATION:

I. Abstract

NOAA operates meteorological satellite imagery transmission systems whose data are available worldwide. Any user can establish a ground station for receiving the data without prior consent from NOAA. The surveying of customers allows NOAA to learn about who uses the data, how it is used, what equipment is used, the location of the equipment, and similar subjects. This information is used to help determine the possible impact of signal or data changes, to identify users for future contacts, and to annually report to the World Meteorological Organization on the geographic location and capabilities of known receiving stations.

II. Method of Collection

People accessing the NOAA Satellite and Information System (NOAASIS) Web site for operational information are presented with an opportunity to voluntarily fill out an electronic user survey. Additionally, people contacting NOAA in a way that indicates that they may operate a satellite receiving station for acquiring NOAA data are informed that an electronic survey is available on the NOAA Web site that they can voluntarily complete.

III. Data

OMB Number: 0648-0227.

Form Number: None.

Type of Review: Regular submission.

Affected Public: Not-for-profit institutions, individuals or households, business or other for-profit organizations, farms, and state, local, or tribal government.

Estimated Number of Respondents: 300.

Estimated Time Per Response: 5 minutes.

Estimated Total Annual Burden Hours: 25.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 9, 2004.
Gwellnar Banks,
Management Analyst, Office of the Chief Information Officer.

[FR Doc. 04-18704 Filed 8-13-04; 8:45 am]

BILLING CODE 3510-HR-S